DEPARTMENT OF ENERGY

Federal Energy Regulatory Commission

Combined Notice of Filings #1

Take notice that the Commission received the following electric corporate filings:

Docket Numbers: EC26-62-000.

Applicants: Sugar Maple Wind, LLC, Exus Sugar Maple Holdings LLC.

Description: Supplement to 02/06/2026 Joint Application for Authorization Under Section 203 of the Federal Power Act of Sugar Maple Wind, LLC, et al.

Filed Date: 2/24/26.

Accession Number: 20260224-5076.

Comment Date: 5 p.m. ET 3/6/26.

Take notice that the Commission received the following exempt wholesale generator filings:

Docket Numbers: EG26-161-000.

Applicants: Hecate Energy Cider Solar LLC.

Description: Hecate Energy Cider Solar LLC submits Notice of Self-Certification of Exempt Wholesale Generator Status.

Filed Date: 2/24/26.

Accession Number: 20260224-5070.

Comment Date: 5 p.m. ET 3/17/26.

Take notice that the Commission received the following Complaints and Compliance filings in EL Dockets:

Docket Numbers: EL26-47-000.

Applicants: North Carolina Electric Membership Corporation v. Duke Energy Progress, LLC.

Description: Complaint of North Carolina Electric Membership Corporation v. Duke Energy Progress, LLC.

Filed Date: 2/23/26.

Accession Number: 20260223-5172.

Comment Date: 5 p.m. ET 3/25/26.

Take notice that the Commission received the following electric rate filings:

Docket Numbers: ER10-1123-014; ER10-1119-000.

Applicants: Central Illinois Public Service Company, Union Electric Company.

Description: Supplement to 01/07/2026, Notice of Non-Material Change in Status of Union Electric Company et al.

Filed Date: 2/18/26.

Accession Number: 20260218-5132.

Comment Date: 5 p.m. ET 3/11/26.

Docket Numbers: ER26-1475-000.

Applicants: Cheyenne Light, Fuel and Power Company.

Description: § 205(d) Rate Filing: Filing of Standard LGIA with Black Hills Electric Generation, LLC to be effective 2/10/2026.

Filed Date: 2/23/26.

Accession Number: 20260223-5165.

Comment Date: 5 p.m. ET 3/16/26.

Docket Numbers: ER26-1476-000.

Applicants: RWE Clean Energy O&M, LLC.

Description: Tariff Amendment: Cancellation of MBR Tariff to be effective 2/24/2026.

Filed Date: 2/23/26.

Accession Number: 20260223-5169.

Comment Date: 5 p.m. ET 3/16/26.

Docket Numbers: ER26-1477-000.

Applicants: Southwest Power Pool, Inc.

Description: § 205(d) Rate Filing: 4651 Willwood Light and Power Company Market Participant Agreement to be effective 4/1/2026.

Filed Date: 2/23/26.

Accession Number: 20260223-5176.

Comment Date: 5 p.m. ET 3/16/26.

Docket Numbers: ER26-1478-000.

Applicants: RWE Supply & Trading US, LLC.

Description: Tariff Amendment: Cancellation of MBR Tariff to be effective 2/24/2026.

Filed Date: 2/23/26.

Accession Number: 20260223-5178.

Comment Date: 5 p.m. ET 3/16/26.

Docket Numbers: ER26-1479-000.

Applicants: PJM Interconnection, L.L.C.

Description: Compliance filing: Co-Located Load Tariff Revisions to Comply with Order in EL25-49, et al. to be effective 12/31/9998.

Filed Date: 2/23/26.

Accession Number: 20260223-5181.

Comment Date: 5 p.m. ET 3/16/26.

Docket Numbers: ER26-1480-000.

Applicants: Bee Hollow Solar, LLC.

Description: Initial Rate Filing: Market-Based Rate Application to be effective 2/24/2026.

Filed Date: 2/23/26.

Accession Number: 20260223-5184.

Comment Date: 5 p.m. ET 3/16/26.

Docket Numbers: ER26-1481-000.

Applicants: Southwest Power Pool, Inc.

Description: § 205(d) Rate Filing: 4648 Cty of Fountain, Colorado and Colorado Springs Utilities Meter Agent Agr to be effective 4/1/2026.

Filed Date: 2/24/26.

Accession Number: 20260224-5046.

Comment Date: 5 p.m. ET 3/17/26.

Docket Numbers: ER26-1482-000.

Applicants: Midcontinent Independent System Operator, Inc.

Description: § 205(d) Rate Filing: 2026-02-24_SA 4596 Entergy Louisiana-Entergy Louisiana 1st Rev GIA (E0014) to be effective 2/19/2026.

Filed Date: 2/24/26.

Accession Number: 20260224-5047.

Comment Date: 5 p.m. ET 3/17/26.

Docket Numbers: ER26-1483-000.

Applicants: PacifiCorp.

Description: § 205(d) Rate Filing: Surplus LGIA (Hornshadow Storage 1—SA No. 1198) to be effective 2/25/2026.

Filed Date: 2/24/26.

Accession Number: 20260224-5058.

Comment Date: 5 p.m. ET 3/17/26.

Docket Numbers: ER26-1484-000.

Applicants: Evergy Missouri West, Inc.

Description: § 205(d) Rate Filing: Osceola IA to be effective 5/1/2026.

Filed Date: 2/24/26.

Accession Number: 20260224-5067.

Comment Date: 5 p.m. ET 3/17/26.

Docket Numbers: ER26-1485-000.

Applicants: Midcontinent Independent System Operator, Inc.

Description: § 205(d) Rate Filing: 2026-02-24_Filing to Remove Outdated Processes from Attachment U to be effective 4/26/2026.

Filed Date: 2/24/26.

Accession Number: 20260224-5069.

Comment Date: 5 p.m. ET 3/17/26.

Docket Numbers: ER26-1486-000.

Applicants: Evergy Missouri West, Inc.

Description: § 205(d) Rate Filing: Gilman City IA to be effective 5/1/2026.

Filed Date: 2/24/26.

Accession Number: 20260224-5074.

Comment Date: 5 p.m. ET 3/17/26.

Docket Numbers: ER26-1487-000.

Applicants: Hecate Energy Cider Solar LLC.

Description: § 205(d) Rate Filing: Hecate Energy Cider Solar LLC MBR Tariff to be effective 4/26/2026.

Filed Date: 2/24/26.

Accession Number: 20260224-5101.

Comment Date: 5 p.m. ET 3/17/26.

Docket Numbers: ER26-1488-000.

Applicants: Tucson Electric Power Company.

Description: § 205(d) Rate Filing: Service Agreement No. 623 to be effective 2/5/2026.

Filed Date: 2/24/26.

Accession Number: 20260224-5103.

Comment Date: 5 p.m. ET 3/17/26.

Docket Numbers: ER26-1489-000.

Applicants: Southwest Power Pool, Inc.

Description: § 205(d) Rate Filing: Revision to Attachment AA for the 2025 CONE Update to be effective 4/26/2026.

Filed Date: 2/24/26.

Accession Number: 20260224-5118.

Comment Date: 5 p.m. ET 3/17/26.

Docket Numbers: ER26-1490-000.

Applicants: Duke Energy Florida, LLC.

Description: Tariff Amendment: DEF Cancellation of RS No. 422 to be effective 4/26/2026.

Filed Date: 2/24/26.

Accession Number: 20260224-5154.

Comment Date: 5 p.m. ET 3/17/26.

Take notice that the Commission received the following electric reliability filings:

Docket Numbers: RD26-4-000.

Applicants: North American Electric Reliability Corporation.

Description: Petition of the North American Electric Reliability Corporation for Approval of Errata to Reliability Standard BAL-007-1.

Filed Date: 2/23/26.

Accession Number: 20260223-5177.

Comment Date: 5 p.m. ET 3/25/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 24, 2026.
Carlos D. Clay,
Deputy Secretary.

[FR Doc. 2026-03951 Filed 2-26-26; 8:45 am]

BILLING CODE 6717-01-P